ENVIRONMENTAL PROTECTION AGENCY

[FRL-10017-77-OMS]

Privacy Act of 1974; System of Records

AGENCY: Office of Mission Support (OMS), Environmental Protection Agency (EPA).

ACTION: Notice of a new system of records.

SUMMARY: The U.S. Environmental Protection Agency's (EPA), Office of Mission Support (OMS) is giving notice that it proposes to create a new system of records pursuant to the provisions of the Privacy Act of 1974 (Privacy Act). The Online Library System (OLS) is being created as a data management system that allows the EPA to collect, store, retrieve and upload data about the collection of the libraries within the EPA National Library Network. The Circulation module of OLS collects Personally Identifiable Information (PII) that is subject to the Privacy Act.

DATES: Persons wishing to comment on this system of records notice must do so by March 25, 2021. Routine uses for this new system of records will be effective March 25, 2021.

ADDRESSES: Submit your comments, identified by Docket ID No.OMS-2019-0646, by one of the following methods:

Regulations.gov: www.regulations.gov. Follow the online instructions for submitting comments.

Email: oei.docket@epa.gov.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's hours of operation, and special arrangements should be made for deliveries of boxed information.

Instructions: Direct your comments to Docket ID No. OMS-2019-0646. The EPA's policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA public docket, visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752.

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Deborah Balsamo, OMS, Office of Enterprise Information Programs, 109 T.W. Alexander Dr., Mail code N127-05, Research Triangle Park, NC 27709; balsamo.deborah@epa.gov, (919) 541-9412.

SUPPLEMENTARY INFORMATION: OLS is a data management system that serves the EPA National Library Network. OLS is comprised of the National Library Catalog database and four operations modules: Serials Management, to track library subscriptions; Dispersals Management, to track the removal of library materials from their collections; Catalog Maintenance, which allows libraries to manage their specific library holdings records; and Circulation Management, which allows authorized library staff to register individuals who wish to borrow materials held in the library and track borrowed materials. The National Library Catalog database allows individuals to search for materials available in the collections of the 24 libraries within the EPA National Library Network. While the library holdings records in the National Library Catalog are accessible by the public, the operations and records management tools of the four modules are solely maintained by authorized library staff. The Circulation Management module is the only module of OLS that collects and uses PII that is also Privacy Act information.

SYSTEM NAME AND NUMBER:

Online Library System (OLS)—EPA-82.

SECURITY CLASSIFICATION:

Unclassified.

SYSTEM LOCATION:

OLS is owned by the Office of Mission Support (OMS) and hosted at the EPA's National Computer Center at Research Triangle Park, NC. OMS Headquarters is located at Environmental Protection Agency (EPA), 1301 Constitution Ave. NW, Washington, DC 20460. The EPA's National Computer Center is at 109 Alexander Drive, Research Triangle Park, NC 27709.

SYSTEM MANAGER(S):

Deborah Balsamo, National Program Manager, OMS, Office of Enterprise Information Programs, 109 T.W. Alexander Dr., Research Triangle Park, NC 27709, Mail code N127-05; balsamo.deborah@epa.gov; (919) 541-9412.

AUTHORITY FOR MAINTENANCE OR THE SYSTEM:

5 U.S.C. 301 “Departmental Regulations,” 44 U.S.C. 3101 “Records Management by Federal Agency Heads.”

PURPOSE(S) OF THE SYSTEM:

OLS is the data management system that serves to enable and enhance operations of the libraries in the EPA National Library Network.

CATEGORIES OF INDIVIDUALS COVERED BY THE SYSTEM:

Individuals who register to borrow materials from the Library can be EPA employees, EPA contractors, and non-EPA individuals.

CATEGORIES OF RECORDS IN THE SYSTEM:

Circulation data consists of descriptive information about the library materials each patron has requested. Patron data consists of category (EPA employee, contractor, general public), name, optional address, email address, and optional phone number (for EPA staff and contractors these data consist only of work address, work email, work phone number, EPA office, and project officer (for contractors)).

RECORD SOURCE CATEGORIES:

The information for establishing a patron record in the Circulation module is obtained from the patron themselves and entered into the system by authorized library staff. There are three mandatory fields (name, email, office/division). If a requestor does not have an office the librarian can enter (N/A or none).

ROUTINE USES OF RECORDS MAINTAINED IN THE SYSTEM, INCLUDING CATEGORIES OF USERS AND PURPOSES OF SUCH USES:

The following routine uses apply to this system because the use of the record is necessary for the efficient conduct of government operations. The routine uses are related to and compatible with the original purpose for which the information was collected. The last two routine uses are required under OMB M-17-12.

A. Disclosure for Law Enforcement Purposes: Information may be disclosed to the appropriate Federal, State, local, tribal or foreign agency responsible for investigating, prosecuting, enforcing, or implementing a statute, rule, regulation, or order, if the information is relevant to a violation or potential violation of civil or criminal law or regulation within the jurisdiction of the receiving entity.

B. Disclosure Incident to Requesting Information: Information may be disclosed to any source from which additional information is requested (to the extent necessary to identify the individual, inform the source of the purpose of the request, and to identify the type of information requested) when necessary to obtain information relevant to an agency decision concerning retention of an employee or other personnel action (other than hiring) retention of a security clearance, the letting of a contract, or the issuance or retention of a grant, or other benefit.

C. Disclosure to Requesting Agency: Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

D. Disclosure to Office of Management and Budget: Information may be disclosed to the Office of Management and Budget at any stage in the legislative coordination and clearance process in connection with private relief legislation as set forth in OMB Circular No. A-19.

E. Disclosure to Congressional Offices: Information may be disclosed to a congressional office from the record of an individual in response to an inquiry from the congressional office made at the request of the individual.

F. Disclosure to Department of Justice: Information may be disclosed to the Department of Justice, or in a proceeding before a court, adjudicative body, or other administrative body before which the Agency is authorized to appear when:

1. The Agency, or any component thereof;

2. Any employee of the Agency in his or her official capacity;

3. Any employee of the Agency in his or her individual capacity where the Department of Justice or the Agency have agreed to represent the employee; or

4. The United States, if the Agency determines that litigation is likely to affect the Agency or any of its components, is a party to ligation or has an interest in such litigation, and the use of such records by the Department of Justice or the Agency is deemed by the Agency to be relevant and necessary to the litigation provided, however, that in each case it has been determined that the disclosure is compatible with the purpose for which the records were collected.

G. Disclosure to the National Archives: Information may be disclosed to the National Archives and Records Administration in records management inspections.

H. Disclosure to Contractors, Grantees, and Others: Information may be disclosed to EPA employees, contractors, grantees, consultants, or volunteers performing or working on a contract, service, grant, cooperative agreement, job or other activity for the Agency and who have a need to have access to the information in the performance of their duties or activities for the Agency. When appropriate, recipients will be required to comply with the requirement of the Privacy Act of 1974, as provided in 5 U.S.C. 552a(m).

I. Disclosures for Administrative Claims, Complaints and Appeals: Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

J. Disclosure to the Office of Personnel Management: Information from this system of records may be disclosed to the Office of Personnel Management pursuant to that agency's responsibility for evaluation and oversight of Federal personnel management.

K. Disclosure in Connection With Litigation: Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

L. Disclosure to Persons or Entities in Response to an Actual of Suspected Breach of Personally Identifiable Information: To appropriate agencies, entities, and persons when (1) the Agency suspects or has confirmed that there has been a breach of the system of records; (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

M. Disclosure To Assist Another Agency in Its Efforts to Respond to a Breach: To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

These records are maintained electronically on secure password protected servers. The secure servers and storage system reside in the National Computer Center's second floor computer room, 109 T.W. Alexander Drive, Research Triangle Park, NC 27709. Backups reside on a backup disk-based appliance and are replicated daily to an EPA-approved offsite location at Room S4730, 2777 Crystal Drive, Arlington, VA 22202.

POLICIES AND PRACTICES FOR RETRIEVAL OF RECORDS:

Records are retrieved by patron's first and last name, email address, and system-generated unique patron ID. Records are only retrievable by authorized library employees (who are EPA employees and contractors). These authorized library employees may only access patron data for the library at which the library employee works. The OLS Database Administrator, a library contractor, has access to all records in the OLS system and its modules.

POLICIES AND PRACTICES FOR RETENTION AND DISPOSAL OF RECORDS:

EPA will retain and dispose of these records in accordance with the National Archives and Records Administration General Records Schedule. OMS has established EPA record schedule 0088 for OLS. Records will be deleted or destroyed when the Agency determines they are no longer needed for administrative, legal, audit, or other purposes. The schedule provides disposal authorization for electronic files and hard copy printouts created to monitor system usage, including log-in files, audit trail files, and system usage files. EPA will delete or destroy records when it determines they are no longer needed for administrative, legal, audit, or other purposes.

ADMINISTRATIVE, TECHNICAL, AND PHYSICAL SAFEGUARDS:

EPA uses security controls to protect PII/Privacy Act information in OLS commensurate with controls required for an information system rated moderate for confidentiality, integrity, and availability, as prescribed in NIST Special Publication, 800-53, “Recommended Security Controls for Federal Information Systems,” Revision 4.

Administrative Safeguards: EPA employees and contractors must complete annual agency training for Information Security and Privacy. EPA instructs contractors and employees to lock and secure their computers when unattended.

Technical Safeguards: The OLS Database Administrator, a library contractor, establishes authorized library employees upon request of the local library manager (EPA staff). Permission level assignments allow authorized users to access only those functions and records specific to the module they are using and their local library. EPA also has technical security measures including restrictions on computer access to authorized individuals and required use of a personal identity verification (PIV) card and password.

Physical Safeguards: EPA equipment used for OLS is located in a secure area of the National Computer Center, 109 T.W. Alexander Drive, Research Triangle Park, NC 27709.

RECORD ACCESS PROCEDURES:

EPA requires individuals seeking access to information in this system of records about themselves to provide adequate identification documentation (e.g., driver's license, military identification card, employee badge or identification card). Additional identity verification procedures may be required, as warranted. Requests must meet the requirements of EPA regulations that implement the Privacy Act of 1974, at 40 CFR part 16.

CONTESTING RECORD PROCEDURES:

Any individual who requests correction or amendment of OLS records must identify the record to be changed and the corrective action sought. Complete EPA Privacy Act procedures are described in EPA's Privacy Act regulations at 40 CFR part 16.

NOTIFICATION PROCEDURE:

Any individual who wishes to know whether this system of records contains a record about themselves, and to obtain a copy of any such record(s), should make a written request to the Attn: Agency Privacy Officer, MC 2831T, 1200 Pennsylvania Ave. NW, Washington, DC 20460, privacy@epa.gov.

EXEMPTIONS PROMULGATED FOR THE SYSTEM:

None.

HISTORY:

None.

Vaughn Noga,
Senior Agency Official for Privacy.

[FR Doc. 2021-03584 Filed 2-22-21; 8:45 am]

BILLING CODE 6560-50-P